DEPARTMENT OF LABOR

Employment and Training Administration

[TA-W-63,386]

Carm Newsome Hosiery; Fort Payne, AL; Notice of Termination of Investigation

In accordance with Section 221 of the Trade Act of 1974, as amended, an investigation was initiated on May 15, 2008 in response to a petition filed by a company official on behalf of workers of Carm Newsome Hosiery, Inc., Fort Payne, Alabama.

The Department issued a negative determination (TA-W-63,029) applicable to the petitioning group of workers on May 6, 2008. The investigative period of that determination and the present case are the same, and no new information or change in circumstances is evident which would result in a reversal of the Department's previous determination. Consequently, further investigation would serve no purpose, and the investigation has been terminated.

Signed in Washington, DC, this 21st day of May 2008.
Richard Church,
Certifying Officer, Division of Trade Adjustment Assistance.

[FR Doc. E8-11900 Filed 5-28-08; 8:45 am]

BILLING CODE 4510-FN-P